ENVIRONMENTAL PROTECTION AGENCY

[FRL-9091-1; Docket ID No. EPA-HQ-ORD-2009-0791]

Draft Toxicological Review of Trichloroethylene: In Support of the Summary Information in the Integrated Risk Information System (IRIS)

AGENCY: Environmental Protection Agency (EPA).

ACTION: Notice of Listening Session.

SUMMARY: EPA is announcing a listening session to be held on January 12, 2010, during the public comment period for the external review draft document entitled, “Toxicological Review of Trichloroethylene: In Support of Summary Information on the Integrated Risk Information System (IRIS)” (EPA/635/R-09/011A). The draft document was prepared by the National Center for Environmental Assessment (NCEA) within the EPA's Office of Research and Development (ORD). This listening session is a step in EPA's revised IRIS process, announced on May 21, 2009, to develop human health assessments for inclusion in the IRIS database. The purpose of the listening session is to allow all interested parties to present scientific and technical comments on draft IRIS health assessments to EPA and other interested parties during the public comment period and before the external peer review meeting. The public comment period and the EPA Science Advisory Board (SAB) peer-review workshop, which will be scheduled at a later date and announced in the Federal Register, are separate processes. EPA welcomes the scientific and technical comments that will be provided to the Agency by the listening session participants. The comments will be considered by the Agency as it revises the draft assessment in response to the independent external peer review and public comments. All presentations submitted in accordance with the instructions below will become part of the official public record.

The EPA's draft assessment and peer review charge are available via the Internet on the National Center for Environmental Assessment's (NCEA) home page under the Recent Additions and Publications menus at http://www.epa.gov/ncea.

DATES: The listening session on the draft IRIS health assessment for trichloroethylene will be held on January 12, 2010, beginning at 9 a.m. and ending at 4 p.m., Eastern Standard Time. If you want to make a presentation at the listening session, you should register by January 5, 2010, indicate that you wish to make oral comments at the session, and indicate the length of your presentation. When you register, please indicate if you will need audio-visual aid (e.g., lap top and slide projector). In general, each presentation should be no more than 30 minutes. If, however, there are more requests for presentations than the allotted time allows, then the time limit for each presentation will be adjusted. A copy of the agenda for the listening session will be available at the meeting. If no speakers have registered by January 5, 2010, the listening session will be cancelled and EPA will notify those registered of the cancellation.

The public comment period for review of this draft assessment was announced previously in the Federal Register (FR) (74 FR 56834) on November 3, 2009. As stated in that FR notice, the public comment period began on November 3, 2009, and ends February 1, 2010. Any technical comments submitted during the public comment period should be in writing and must be received by EPA by February 1, 2010. Only those public comments submitted using the procedures identified in the November 3, 2009, FR notice by the February 1, 2010, deadline will be provided to the peer-review panel prior to the SAB peer-review workshop. The date and logistics for the SAB peer-review meeting will be announced later in a separate FR notice.

Listening session participants who want EPA to share their comments with the external peer reviewers should also submit written comments during the public comment period using the detailed and established procedures included in the aforementioned FR notice of November 3, 2009. Comments submitted to the docket prior to the end of the public comment period will be submitted to the external peer reviewers and considered by EPA in the disposition of public comments. All comments must be submitted to the docket, but comments received after the public comment period closes will not be submitted to the external peer reviewers.

ADDRESSES: The listening session on the draft trichloroethylene assessment will be held at the EPA offices at Potomac Yard North, Room 4830N, 2733 South Crystal Drive, Arlington, Virginia, 22202. To attend the listening session, register by Tuesday, January 5, 2010, via the internet at https://www2.ergweb.com/projects/conferences/peerreview/register-tce.htm. You may also register by e-mail at meetings@erg.com (subject line: Trichloroethylene Listening Session), by phone: 781-674-7374 or toll free at 800-803-2833 (ask for Laurie Stamatatos), or by faxing a registration request to 781-674-2906 (please reference the “Trichloroethylene Listening Session” and include your name, title, affiliation, full address, and contact information).

Please note that to gain entrance to this EPA building to attend the meeting, attendees must have photo identification with them and must register at the guard's desk in the lobby. The guard will retain your photo identification and will provide you with a visitor's badge. At the guard's desk, attendees should give the name Christine Ross and the telephone number, 703-347-8592, to the guard on duty. The guard will contact Ms. Ross who will meet you in the reception area to escort you to the meeting room. When you leave the building, please return your visitor's badge to the guard and you will receive your photo identification.

A teleconference line will also be available for registered attendees/speakers. The teleconference number is 866-299-3188 and the access code is 926-378-7897, followed by the pound sign (#). The teleconference line will be activated at 8:45 a.m., and you will be asked to identify yourself and your affiliation at the beginning of the call.

Information on Services for Individuals with Disabilities: EPA welcomes public attendance at the “Trichloroethylene Listening Session” and will make every effort to accommodate persons with disabilities. For information on access or services for individuals with disabilities, please contact Christine Ross at 703-347-8592 or ross.christine@epa.gov. To request accommodation of a disability, please contact Ms. Ross, preferably at least 10 days prior to the meeting, to give EPA as much time as possible to process your request.

FOR FURTHER INFORMATION CONTACT: For information on the public listening sessions, please contact Christine Ross, IRIS Staff, National Center for Environmental Assessment, (8601P), U.S. EPA, 1200 Pennsylvania Avenue, NW., Washington, DC 20460; telephone: 703-347-8592; facsimile: 703-347-8689; or e-mail: ross.christine@epa.gov. If you have questions about the draft trichloroethylene assessment, contact Weihsueh Chiu, National Center for Environmental Assessment, (8601P), U.S. EPA, 1200 Pennsylvania Avenue, NW., Washington, DC 20460; telephone: 703-347-8607; facsimile: 703-347-8689; or e-mail: chiu.weihsueh@epa.gov.

SUPPLEMENTARY INFORMATION: IRIS is a database that contains potential adverse human health effects information that may result from chronic (or lifetime) exposure to specific chemical substances found in the environment. The database (available on the internet at http://www.epa.gov/iris) contains qualitative and quantitative health effects information for more than 540 chemical substances that may be used to support the first two steps (hazard identification and dose-response evaluation) of a risk assessment process. When supported by available data, the database provides oral reference doses (RfDs) and inhalation reference concentrations (RfCs) for chronic health effects, and oral slope factors and inhalation unit risks for carcinogenic effects. Combined with specific exposure information, government and private entities can use IRIS data to help characterize public health risks of chemical substances in a site-specific situation and thereby support risk management decisions designed to protect public health.

This listening session is a step in EPA's revised process, announced on May 21, 2009, for development of human health assessments for inclusion on IRIS. The updated process is posted on the IRIS home page at http://www.epa.gov/iris.

Dated: December 1, 2009.
Rebecca Clark,
Acting Director, National Center for Environmental Assessment.

[FR Doc. E9-29594 Filed 12-10-09; 8:45 am]

BILLING CODE 6560-50-P